FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Savings and Loan Holding Company Registration Statement (FR LL-10(b); OMB No. 7100-0337).

DATES: Comments must be submitted on or before October 7, 2019.

ADDRESSES: You may submit comments, identified by FR LL-10(b), by any of the following methods:

• Agency website: https://www.federalreserve.gov. Follow the instructions for submitting comments at https://www.federalreserve.gov/apps/foia/proposedregs.aspx.

• Email: regs.comments@federalreserve.gov. Include the OMB number in the subject line of the message.

• Fax: (202) 452-3819 or (202) 452-3102.

• Mail: Ann E. Misback, Secretary, Board of Governors of the Federal Reserve System, 20th Street and Constitution Avenue NW, Washington, DC 20551.

All public comments are available on the Board's website at https://www.federalreserve.gov/apps/foia/proposedregs.aspx as submitted, unless modified for technical reasons or to remove personally identifiable information at the commenter's request. Accordingly, comments will not be edited to remove any identifying or contact information. Public comments may also be viewed electronically or in paper form in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer—Shagufta Ahmed—Office of Information and Regulatory Affairs, Office of Management and Budget, New Executive Office Building, Room 10235, 725 17th Street NW, Washington, DC 20503, or by fax to (202) 395-6974.

FOR FURTHER INFORMATION CONTACT: A copy of the Paperwork Reduction Act (PRA) OMB submission, including the reporting form and instructions, supporting statement, and other documentation will be placed into OMB's public docket files, if approved. These documents will also be made available on the Board's public website at https://www.federalreserve.gov/apps/reportforms/review.aspx or may be requested from the agency clearance officer, whose name appears below. Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the PRA to approve and assign OMB control numbers to collections of information conducted or sponsored by the Board. In exercising this delegated authority, the Board is directed to take every reasonable step to solicit comment. In determining whether to approve a collection of information, the Board will consider all comments received from the public and other agencies.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Report title: Savings and Loan Holding Company Registration Statement.

Agency form number: FR LL-10(b).

OMB control number: 7100-0337.

Frequency: As needed.

Respondents: Savings and loan holding companies (SLHCs).

Estimated number of respondents: 8.

Estimated average hours per response: Reporting: 8; recordkeeping: 0.25.

Estimated annual burden hours: Reporting: 64; recordkeeping: 2.

General description of report: The FR LL-10(b) requests information from registering SLHCs on the financial condition, ownership, operations, management, and intercompany relationships of the SLHC and its subsidiaries. Additionally, respondents must include information concerning the transaction that resulted in the respondent becoming an SLHC, a description of the SLHC's business, and a description of any changes related to the financial condition, ownership, operations, intercompany relationships, and management of the SLHC and its subsidiaries since the registrant's application to become an SLHC was approved. The principal executive or principal financial officer of the registering SLHC must certify that the information contained in the submission has been carefully reviewed and is true, correct, and complete.

Proposed revisions: The Board proposes several revisions to make the FR LL-10(b) consistent with the format of other Board forms and to reflect the Board's regulations. Specifically, the Board is proposing the following revisions:

(1) Adding several items requesting information regarding any subsidiaries of the SLHC. This information will assist the Federal Reserve System in its supervision of the consolidated SLHC structure;

(2) Adding an item requesting the mailing address of the SLHC, if different from its physical address. This item will help Federal Reserve System staff contact the filer.

(3) Adding an item for the printed name of the officer who signed the FR LL-10(b). This item will help Federal Reserve System staff identify the individual that certified the accuracy of the filing;

(4) Adding an item requesting the date of signature of the FR LL-10(b). This item will inform the Federal Reserve System of the date as of which the signatory certified the accuracy of information included in the filing.

In addition, the Board proposes to revise the FR LL-10(b) to account for a requirement in the FR LL-10(b) instructions that respondents retain a signed copy of the form and data submitted. The FR LL-10(b) does not currently account for this recordkeeping requirement.

Legal authorization and confidentiality: The FR LL-10(b) is authorized by Section 10(b)(1) of the Home Owners' Loan Act (HOLA), which requires each SLHC to register with the Federal Reserve within 90 days of becoming an SLHC on forms prescribed by the Board that contain such information as the Board may deem necessary or appropriate. The obligation to respond is mandatory.

Individual respondents may request that information submitted to the Board through the FR LL-10(b) be kept confidential. If a respondent requests confidential treatment, the Board will determine whether the information is entitled to confidential treatment on a case-by-case basis. Information collected through the FR LL-10(b) may be kept confidential under exemption 4 for the Freedom of Information Act, which protects privileged or confidential commercial or financial information, or under FOIA exemption 6, which covers personal information, the disclosure of which would constitute an unwarranted invasion of privacy.

Board of Governors of the Federal Reserve System, August 5, 2019.
Ann Misback,
Secretary of the Board.

[FR Doc. 2019-17007 Filed 8-7-19; 8:45 am]

BILLING CODE 6210-01-P